DEPARTMENT OF TRANSPORTATION

Federal Highway Administration

Notice of Final Federal Agency Actions on the Interstate 95 High Occupancy Toll Lanes Project in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the Interstate 95 High Occupancy Toll Lanes project in Spotsylvania, Stafford, Prince William, and Fairfax Counties and City of Fredericksburg, Virginia, and those actions grant licenses, permits, and approvals for the project.

DATES: By this notice, the FHWA is advising the public of final agency actions subject to 23 U.S.C. 139(l)(1). A claim seeking judicial review of the Federal agency actions on the project will be barred unless the claim is filed on or before June 19, 2012. Notwithstanding any other provision of law, a claim arising under Federal law seeking judicial review of a permit, license, or approval issued by a Federal agency for a highway or public transportation capital project shall be barred unless it is filed within 180 days after publication of a notice in the Federal Register announcing that the permit, license, or approval is final pursuant to the law under which the agency action is taken, unless a shorter time is specified in the Federal law pursuant to which judicial review is allowed.

FOR FURTHER INFORMATION CONTACT: Mr. Edward Sundra, Director of Program Development, Federal Highway Administration, 400 North 8th Street, Richmond, Virginia, 23219; telephone: (804) 775-3357; email: Ed.Sundra@dot.gov. The FHWA Virginia Division Office's normal business hours are 8 a.m. to 5 p.m. (eastern time). For the Virginia Department of Transportation: Mr. John D. Lynch, P.E., Regional Transportation Program Director, Virginia Department of Transportation, 6363 Walker Lane, Suite 500, Alexandria, Virginia, 22310; telephone: (703) 383-2274; email: John.Lynch@VDOT.Virginia.gov.

SUPPLEMENTARY INFORMATION: Notice is hereby given that FHWA has taken final agency actions subject to 23 U.S.C. 139(l)(1) by issuing licenses, permits, and approvals for the following project in the State of Virginia: Interstate 95 High Occupancy Toll (HOT) Lanes. Generally, the Interstate 95 HOT Lanes project will expand the existing two High Occupancy Vehicle (HOV) lanes to three lanes from just north of the I-95/I-395/I-495 interchange in Fairfax County (in the vicinity of the I-395/Edsall Road interchange) to the Prince William Parkway in Prince William County (Exit 158) and convert them to HOT Lanes. The existing two HOV lanes will be maintained from the Prince William Parkway to south of the Town of Dumfries in Prince William County but be converted to HOT Lanes. Two new HOV/HOT Lanes will be constructed for approximately 26 miles through Stafford County, the City of Fredericksburg and Spotsylvania County to approximately one mile south of Route 17 in Spotsylvania County. The project will also include flyover ramps and at-grade slip ramps to facilitate movement between the HOV/HOT lanes and the general purpose lanes. Pull-off areas will also be provided for enforcement and breakdown purposes. The project would accommodate travel demand more efficiently, provide higher reliability of travel times, and expand travel choices. The actions taken by FHWA, and the laws under which such actions were taken, are described in the Environmental Assessment, the letter finalizing the Environmental Assessment process and requesting a Finding of No Significant Impact (FONSI), the FONSI that was issued on December 5, 2011, and in other documents in the FHWA project records. The Environmental Assessment, the Air Quality and Noise Analyses, and the Design Public Hearings Comments and Response Report can be viewed on the project's Web site at http://www.vamegaprojects.com/about-megaprojects/i-95-hov-hot-lanes/. These documents and other project records are also available by contacting FHWA or the VDOT at the contact information provided above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536].

5. Historic and Cultural Resources: Section 106 of the National Historic Preservation Act of 1966, as amended [16 U.S.C. 470(f) et seq.].

6. Social and Economic: Farmland Protection Policy Act [7 U.S.C. 4201-4209].

(Catalog of Federal Domestic Assistance Program Number 20.205, Highway Planning and Construction. The regulations implementing Executive Order 12372 regarding intergovernmental consultation on Federal programs and activities apply to this program.)

Authority: 23 U.S.C 139(l)(1) .

Issued On: December 7, 2011.
Edward Sundra,
Director of Program Development.

[FR Doc. 2011-32827 Filed 12-21-11; 8:45 am]

BILLING CODE 4910-RY-P